DEPARTMENT OF THE TREASURY

Office of Foreign Assets Control

Additional Designation of Person Whose Property and Interests in Property Are Blocked Pursuant to Executive Order 13536 of April 12, 2010, “Blocking Property of Certain Persons Contributing to the Conflict in Somalia.”

AGENCY: Office of Foreign Assets Control, Treasury.

ACTION: Notice.

SUMMARY: The Treasury Department's Office of Foreign Assets Control (“OFAC”) is publishing the name of one individual whose property and interests in property are blocked pursuant to Executive Order 13536 of April 12, 2010, “Blocking Property of Certain Persons Contributing to the Conflict in Somalia.”

DATES: The designation by the Director of OFAC of the individual identified in this notice was announced on July 29, 2011.

FOR FURTHER INFORMATION CONTACT: Assistant Director, Sanctions Compliance and Evaluation, Office of Foreign Assets Control, Department of the Treasury, 1500 Pennsylvania Avenue, NW. (Treasury Annex), Washington, DC 20220, Tel.: 202/622-2490.

SUPPLEMENTARY INFORMATION:

Electronic and Facsimile Availability

The List of Specially Designated Nationals and Blocked Persons (“SDN List”) and additional information concerning OFAC are available from OFAC's Web site (http://www.treas.gov/ofac). Certain general information pertaining to OFAC's sanctions programs also is available via facsimile through a 24-hour fax-on-demand service, Tel.: 202/622-0077.

Background

On April 12, 2010, the President issued Executive Order 13536, “Blocking Property of Certain Persons Contributing to the Conflict in Somalia” (the “Order”), pursuant to, inter alia, the International Emergency Economic Powers Act (50 U.S.C. 1701-06). In the Order, the President declared a national emergency to address the deterioration of the security situation and the persistence of violence in Somalia and acts of piracy and armed robbery at sea off the coast of Somalia.

Section 1 of the Order blocks, with certain exceptions, all property and interests in property that are in the United States, that come within the United States, or that are or come within the possession or control of any United States person, of persons listed in the Annex to the Order and of persons determined by the Secretary of the Treasury, in consultation with the Secretary of State, to satisfy certain criteria set forth in the Order. The Annex to the Order lists eleven individuals and one entity whose property and interests in property are blocked pursuant to the Order.

On July 29, 2011, the Director of OFAC, in consultation with the Secretary of State and other relevant agencies, designated Omar Hammami as an individual whose property and interests in property are blocked pursuant to the Order for acting or purporting to act for or on behalf of, directly or indirectly, al-Shabaab pursuant to subsection 1(a)(ii)(E) of the Order; for engaging in acts that directly or indirectly threaten the peace, security, or stability of Somalia pursuant to subsections 1(a)(ii)(A)(1) and (2) of the Order and for materially assisting, sponsoring, or providing financial, material, logistical, or technical support for, or goods or services in support of al-Shabaab pursuant to subsection 1(a)(ii)(D) of the Order.

Omar Hammami is one of Al-Shabaab's key figures, who has commanded guerilla forces in combat, organized attacks, and plotted strategy with Al Qaeda. Omar Hammami's roles in Al-Shabaab include those of a military tactician, recruitment strategist and financial manager.

Omar Hammami is featured in an Al-Shabaab video in which militia members are shown training and explicitly stating their allegiance to Osama bin Laden, in what appeared to be an attempt to increase recruiting among Somalis, including Somali émigrés in the United States.

Omar Hammami was involved in organizing a suicide bombing attack carried out by a Somali-American from Minnesota who traveled to Somalia to join Al-Shabaab. That attack and four others organized by Omar Hammami and carried out on October 28, 2008, killed more than 20 people.

Omar Hammami, a U.S. citizen, has been indicted in the Southern District of Alabama on a three-count indictment for allegedly providing material support, including himself as personnel, to terrorists; conspiring to provide material support to a designated foreign terrorist organization, Al-Shabaab; and providing material support to Al-Shabaab.

As a result of this designation, all property and interests in property of Omar Hammami that are or hereafter come within the United States or within the possession or control of U.S. persons, including their overseas branches, are blocked. Blocked property may not be transferred, sold or otherwise dealt in without authorization. Any transaction or dealing by a U.S. person, or within the United States, in any property or interests in property of Omar Hammami is prohibited unless authorized, as is any transaction or dealing that evades or avoids this prohibition. It is also unlawful for any person to conspire to violate, attempt to violate, or cause a violation of this prohibition.

OFAC has discretion to issue licenses authorizing specific transactions that are otherwise prohibited by the Order. All requests for specific licenses should be made in writing to the Assistant Director for Licensing, U.S. Department of the Treasury, Office of Foreign Assets Control, 1500 Pennsylvania Avenue, NW., Washington, DC 20220. Licensing procedures are set forth in sections 501.801-802 of the Reporting, Procedures and Penalties Regulations (“RPPR”), 31 CFR part 501. The RPPR also provide procedures for submitting requests for unblocking funds and reconsideration of a designation. 31 CFR 501.806-807.

The listing of the blocked individual is as follows:

1. HAMMAMI, Omar (a.k.a. AL-AMRIKI, Abu Mansour; a.k.a. AL-AMRIKI, Abu Mansur; a.k.a. AL-AMRIKI, Abu Mansuur; a.k.a. “Farouk”; a.k.a. “Farouq”; a.k.a. HAMMAMI, Umar; a.k.a. HAMMAMI, Omar Shafik), DOB 06 May 1984; POB Alabama, USA; Passport 403062567 (United States); SSN 423-31-3021 (United States); (INDIVIDUAL) [SOMALIA].

Dated: July 29, 2011.
Barbara C. Hammerle,
Acting Director, Office of Foreign Assets Control.

[FR Doc. 2011-19842 Filed 8-4-11; 8:45 am]

BILLING CODE 4810-AL-P